DEPARTMENT OF HOMELAND SECURITY

Federal Emergency Management Agency

[Docket ID FEMA-2013-0002; Internal Agency Docket No. FEMA-B-1284]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before May 6, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1284, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Nye County, Nevada, and Incorporated Areas
Maps Available for Inspection Online at: http://www.r9map.org/Pages/ProjectDetailsPage.aspx?choLoco=84&choProj=248
Unincorporated Areas of Nye County | Nye County Department of Planning, 1114 Globe Mallow, P.O. Box 1531, Tonopah, NV 89049.
City of Newport News, Virginia (Independent City)
Maps Available for Inspection Online at: www.rampp-team.com/va.htm
City of Newport News | Department of Engineering, 2400 Washington Avenue, Newport News, VA 23607.
Clark County, Indiana, and Incorporated Areas
Maps Available for Inspection Online at: http://www.starr-team.com/starr/RegionalWorkspaces/RegionV/ClarkCoIN/SitePages/Home.aspx
City of Charlestown | City Hall, 304 Main Cross Street, Charlestown, IN 47111.
City of Jeffersonville | City Hall, 500 Quartermaster Court, Jeffersonville, IN 47130.
Town of Borden | Town Hall, 129 West Street, Borden, IN 47106.
Town of Clarksville | Town Hall, 2000 Broadway, Clarksville, IN 47129.
Town of Sellersburg | Public Works Building, 103 South New Albany Avenue, Sellersburg, IN 47172.
Town of Utica | Town Hall, 107 North Fourth Street, Utica, IN 47130.
Unincorporated Areas of Clark County | Clark County Government Building, 501 East Court Avenue, Room 416, Jeffersonville, IN 47130.
Pulaski County, Indiana, and Incorporated Areas
Maps Available for Inspection Online at: http://www.in.gov/dnr/water/7359.htm
Town of Medaryville | Town Hall, 409 East Main Street, Medaryville, IN 47957.
Town of Monterey | Town Hall, 7033 North Walnut Street, Monterey, IN 46960.
Town of Winamac | Municipal Offices, 120 West Main Street, Winamac, IN 46996.
Unincorporated Areas of Pulaski County | Pulaski County Building Department, 125 South Riverside Drive, Suite 150, Winamac, IN 46996.
Hennepin County, Minnesota, and Incorporated Areas
Maps Available for Inspection Online at: http://www.starr-team.com/starr/RegionalWorkspaces/RegionV/HennepinCoMN/SitePages/Home.aspx
City of Bloomington | Engineering Department, 1700 West 98th Street, Bloomington, MN 55431.
City of Brooklyn Center | City Hall, 6301 Shingle Creek Parkway, Brooklyn Center, MN 55430.
City of Brooklyn Park | City Hall, 5200 85th Avenue North, Brooklyn Park, MN 55443.
City of Champlin | City Hall, Building Department, 11955 Champlin Drive, Champlin, MN 55316.
City of Dayton | City Hall, 12260 South Diamond Lake Road, Dayton, MN 55327.
City of Eden Prairie | City Hall, 8080 Mitchell Road, Eden Prairie, MN 55344.
City of Edina | City Hall, 4801 West 50th Street, Edina, MN 55424.
City of Greenfield | City Hall, 7738 Commerce Circle, Greenfield, MN 55373.
City of Hanover | City Hall, 11250 Northeast 5th Street, Hanover, MN 55341.
City of Hopkins | City Hall, Planning and Zoning Office, 1010 1st Street South, Hopkins, MN 55343.
City of Independence | City Hall, 1920 County Road 90, Independence, MN 55359.
City of Long Lake | City Hall, 450 Virginia Avenue, Long Lake, MN 55356.
City of Minneapolis | City Hall, Public Works Office, 350 South 5th Street, Minneapolis, MN 55415.
City of Minnetonka | City Hall, 14600 Minnetonka Boulevard, Minnetonka, MN 55345.
City of Minnetrista | City Hall, 7701 County Road 110 West, Minnetrista, MN 55364.
City of Orono | City Hall, 2750 Kelley Parkway, Orono, MN 55356.
City of Plymouth | City Hall, 3400 Plymouth Boulevard, Plymouth, MN 55447.
City of Richfield | City Hall, 6700 Portland Avenue, Richfield, MN 55423.
City of Rockford | City Hall, 6031 Main Street, Rockford, MN 55373.
City of Rogers | City Hall, 22350 South Diamond Lake Road, Rogers, MN 55374.
City of St. Bonifacius | City Hall, 8535 Kennedy Memorial Drive, St. Bonifacius, MN 55375.
City of St. Louis Park | City Hall, Community Development, 5005 Minnetonka Boulevard, St. Louis Park, MN 55416.
City of Wayzata | City Hall, 600 Rice Street East, Wayzata, MN 55391.
Harris County, Texas, and Incorporated Areas
Maps Available for Inspection Online at: http://riskmap6.com/Community.aspx?cid=350&sid=5
City of Houston | Public Works and Engineering Department, 611 Walker Street, Houston, TX 77002.
City of Humble | City Permit Department, 114 West Higgins, Humble, TX 77338.
City of Jersey Village | Public Works Department, 16501 Jersey Drive, Jersey Village, TX 77040.
Unincorporated Areas of Harris County | Harris County PID, A&E Division, Permit Office, 10555 Northwest Freeway, Suite 120, Houston, TX 77092.
Rockingham County, Virginia, and Incorporated Areas
Maps Available for Inspection Online at: www.rampp-team.com/va.htm
Town of Bridgewater | Town Hall, 201 Green Street, Bridgewater, VA 22812.
Unincorporated Areas of Rockingham County | Rockingham County Administration Center, 20 East Gay Street, Harrisonburg, VA 22802.

(Catalog of Federal Domestic Assistance No. 97.022, “Flood Insurance.”)

James A. Walke,
Acting Deputy Associate Administrator for Mitigation, Department of Homeland Security, Federal Emergency Management Agency.

[FR Doc. 2013-02449 Filed 2-4-13; 8:45 am]

BILLING CODE 9110-12-P